COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add service(s) to the Procurement List that will be furnished by nonprofit agencies employing persons who are blind or have other severe disabilities, and deletes products and services previously furnished by such agencies.

DATES: Comments must be received on or before: November 8, 2020.

ADDRESSES: Committee for Purchase From People Who Are Blind or Severely Disabled, 1401 S. Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following services are proposed for addition to the Procurement List for production by the nonprofit agency listed:

Service(s)

Service Type: Custodial and Related Services

Mandatory for: GSA PBS Region 4, Josiah House Courthouse, Charleston, SC

Source of Supply: Palmetto Goodwill Services, North Charleston, SC

Contracting Activity: PUBLIC BUILDINGS SERVICE, PBS R4 TENNESSEE/KENTUCKY CONTRACTS

Deletions

The following products and services are proposed for deletion from the Procurement List:

Product(s)

NSN(s)—Product Name(s):

8415-01-494-4607—Cover, Parachutists' and Ground Troops' Helmet, All Services, Snow Camouflage, XL

Source of Supply: Mount Rogers Community Services Board, Wytheville, VA

Contracting Activity: DLA TROOP SUPPORT, PHILADELPHIA, PA

Service(s)

Service Type: Janitorial/Minor Maintenance

Mandatory for: U.S. Post Office, Courthouse and Customs House, Key West, FL

Source of Supply: Brevard Achievement Center, Inc., Rockledge, FL

Contracting Activity: PUBLIC BUILDINGS SERVICE, ACQUISITION DIVISION/SERVICES BRANCH

Service Type: Janitorial/Custodial

Mandatory for: U.S. Courthouse and Customhouse, St. Louis, MO

Source of Supply: MGI Services Corporation, St. Louis, MO

Contracting Activity: GENERAL SERVICES ADMINISTRATION, FPDS AGENCY COORDINATOR

Service Type: Janitorial/Custodial

Mandatory for: Social Security Administration Building: 1530 4th Street, Peru, IL

Contracting Activity: GENERAL SERVICES ADMINISTRATION, FPDS AGENCY COORDINATOR

Service Type: Grounds Maintenance

Mandatory for: Rockville Post Office, Rockville, MD

Source of Supply: Melwood Horticultural Training Center, Inc., Upper Marlboro, MD

Contracting Activity: PUBLIC BUILDINGS SERVICE, WPHBB—AGGREGATED REPAIR&ALTERATIONS CONTRACTS BRANCH

Service Type: Grounds Maintenance

Mandatory for: Consumer Product Safety Commission, Gaithersburg, MD

Source of Supply: Melwood Horticultural Training Center, Inc., Upper Marlboro, MD

Contracting Activity: PUBLIC BUILDINGS SERVICE, WPHBB—AGGREGATED REPAIR&ALTERATIONS CONTRACTS BRANCH

Service Type: Grounds Maintenance

Mandatory for: Bureau of Alcohol, Tobacco and Firearms, Rockville, MD

Source of Supply: Melwood Horticultural Training Center, Inc., Upper Marlboro, MD

Contracting Activity: PUBLIC BUILDINGS SERVICE, WPHBB—AGGREGATED REPAIR&ALTERATIONS CONTRACTS BRANCH

Service Type: Grounds Maintenance

Mandatory for: U.S. Army Reserve Center: 70 Rochester Hill Road, Rochester, NH

Source of Supply: Northern New England Employment Services, Portland, ME

Contracting Activity: DEPT OF THE ARMY, W6QK ACC-PICA

Service Type: Janitorial/Custodial

Mandatory for: U.S. Coast Guard: CGC Eagle (WIX-327), New London, CT

Source of Supply: CW Resources, Inc., New Britain, CT

Contracting Activity: U.S. COAST GUARD, U.S. COAST GUARD

Service Type: Janitorial/Custodial

Mandatory for: U.S. Federal Building: 125 South Main Street, Muskogee, OK

Source of Supply: Golden Rule Industries of Muskogee, Inc., Muskogee, OK

Contracting Activity: GENERAL SERVICES ADMINISTRATION, FPDS AGENCY COORDINATOR

Service Type: Janitorial/Custodial

Mandatory for: Navy Exchange: Fort Adams, Building 402, Newport, RI

Source of Supply: AccessPoint RI, Cranston, RI

Contracting Activity: NEXCOM-Navy Exchange Service Command

Service Type: Custodial Services

Mandatory for: Department of Homeland Security: CBP—Pier One Ala Moana Blvd., Honolulu, HI

Source of Supply: Lanakila Pacific, Honolulu, HI

Contracting Activity: OFFICE OF PROCUREMENT OPERATIONS, OFFICE OF PROCUREMENT OPERATIONS

Service Type: Janitorial/Custodial

Mandatory for: U.S. Federal Building, Tulsa, OK

Contracting Activity: GENERAL SERVICES ADMINISTRATION, FPDS AGENCY COORDINATOR

Service Type: Custodial Services

Mandatory for: Customs and Border Protection, Checkpoint 808, I-8 Westbound 70.2 Mile Marker, Winterhaven, CA, Winterhaven, CA

Source of Supply: ARC-Imperial Valley, El Centro, CA

Contracting Activity: U.S. CUSTOMS AND BORDER PROTECTION, BORDER ENFORCEMENT CONTRACTING DIVISION

Service Type: Janitorial/Custodial

Mandatory for: Durward G. Hall Federal Building and Courthouse: 302 Joplin Street, Joplin, MO

Contracting Activity: GENERAL SERVICES ADMINISTRATION, FPDS AGENCY COORDINATOR

Service Type: Document Destruction

Mandatory for: Department of Veterans Affairs, Veterans Integrated Service Network (VISN) 10, Kettering, OH, Kettering, OH

Source of Supply: Greene, Inc., Xenia, OH

Contracting Activity: VETERANS AFFAIRS, DEPARTMENT OF, 552-DAYTON

Service Type: Administrative Services

Mandatory for: Fort McPherson, GA, HQ USA FORSCOM DESLOG CD, Fort McPherson, GA

Source of Supply: Bobby Dodd Institute, Inc., Atlanta, GA

Contracting Activity: DEPT OF THE ARMY, W6QM MICC-FT GORDON

Service Type: Janitorial/Custodial

Mandatory for: U.S. Federal Building: Building #4, Suitland, MD

Source of Supply: Davis Memorial Goodwill Industries, Washington, DC

Contracting Activity: GENERAL SERVICES ADMINISTRATION, FPDS AGENCY COORDINATOR

Service Type: Janitorial/Custodial

Mandatory for: U.S. Army Reserve, Fort Drum Units Home Station and Units Home Vehicle Storage (Motor Pool), Fort Drum, NY, Fort Drum, NY

Source of Supply: Jefferson County Chapter, NYSARC, Watertown, NY

Contracting Activity: DEPT OF THE ARMY, W6QK ACC-PICA

Service Type: Janitorial/Custodial

Mandatory for: U.S. Federal Building: 123 Fourth Street, SW, Albuquerque, NM

Contracting Activity: GENERAL SERVICES ADMINISTRATION, FPDS AGENCY COORDINATOR

Service Type: Janitorial/Custodial

Mandatory for: U.S. Federal Building and Courthouse: 101 First Street SE, Cedar Rapids, IA

Contracting Activity: GENERAL SERVICES ADMINISTRATION, FPDS AGENCY COORDINATOR

Service Type: Janitorial/Custodial

Mandatory for: U.S. Customs Service, Seattle, WA

Source of Supply: Northwest Center, Seattle, WA

Contracting Activity: TREASURY, DEPARTMENT OF THE, DEPT OF TREAS/

Service Type: Facility Support Services

Mandatory for: U.S. Federal Building, Courthouse and Post Office: 330 Shawnee Street, Leavenworth, KS

Contracting Activity: GENERAL SERVICES ADMINISTRATION, FPDS AGENCY COORDINATOR

Service Type: Janitorial/Custodial

Mandatory for: Naval Sea Systems Command (NAVSEA) Buildings 22,: 28, 104, 176, 197, 201, 213 and 214, Washington Navy Yd, DC

Source of Supply: Melwood Horticultural Training Center, Inc., Upper Marlboro, MD

Contracting Activity: DEPT OF THE NAVY, U S FLEET FORCES COMMAND

Service Type: Laundry Service

Mandatory for: Department of Veterans Affairs, Wilmington VA Medical Center, Wilmington, DE, Wilmington, DE

Source of Supply: Elwyn, Aston, PA

Contracting Activity: VETERANS AFFAIRS, DEPARTMENT OF, 244-NETWORK CONTRACT OFC 4 (00244)

Service Type: Grounds Maintenance

Mandatory for: Federal Center: 620 Central Avenue, Alameda, CA

Source of Supply: Rubicon Programs, Inc., Richmond, CA

Contracting Activity: GENERAL SERVICES ADMINISTRATION, FPDS AGENCY COORDINATOR

Michael R. Jurkowski,
Deputy Director, Business & PL Operations.

[FR Doc. 2020-22387 Filed 10-8-20; 8:45 am]

BILLING CODE 6353-01-P